DEPARTMENT OF THE INTERIOR

National Park Service

[NPS-WASO-NRNHL-DTS#-36933; PPWOCRADI0, PCU00RP14.R50000]

National Register of Historic Places; Notification of Pending Nominations and Related Actions

AGENCY: National Park Service, Interior.

ACTION: Notice.

SUMMARY: The National Park Service is soliciting electronic comments on the significance of properties nominated before October 21, 2023, for listing or related actions in the National Register of Historic Places.

DATES: Comments should be submitted electronically by December 7, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before October 21, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

ARIZONA

Pima County

El Dorado Lodge, 6400 E. El Dorado Circle, Tucson, SG100009580

CALIFORNIA

Los Angeles County

Toad Hall, 353 Anita Drive, Pasadena, SG100009582

COLORADO

Denver County

Machebeuf Hall, 3040 South Loretto Way, Denver, SG100009576

CONNECTICUT

Hartford County

Bedford-Garden Streets Historic District, roughly bounded by Mather Street, Brook Street and Bedford Street, Hartford, SG100009583

GEORGIA

Fulton County

Paces Ferry Tower, 374 East Paces Ferry Road, Atlanta, SG100009574

LOUISIANA

Iberia Parish

Freetown-Lil' Brooklyn Historic District, Roughly including the eastern sides of Rosier St, Johnson Alley, and partially Hortense Street, New Iberia, SG100009575

TENNESSEE

Shelby County

Omicron Sigma Chapter House of Sigma Gamma Rho Sorority, Incorporated, 805 Saxon Avenue, Memphis, SG100009581

VIRGINIA

Northampton County

Eyreville, 3259 Eyreville Drive, Cheriton vicinity, SG100009579

WYOMING

Fremont County

Chief Washakie Hot Springs Site, Address Restricted, Fort Washakie vicinity, SG100009578

Authority: Section 60.13 of 36 CFR part 60.

Sherry A. Frear,
Chief, National Register of Historic Places/National Historic Landmarks Program.

[FR Doc. 2023-25826 Filed 11-21-23; 8:45 am]

BILLING CODE 4312-52-P